SECURITIES AND EXCHANGE COMMISSION

[File No. 500-1]

In the Matter of Nanosignal Corp., Inc. (n/k/a Nano Global, Inc.), National Micronetics, Inc., NetVoice Technologies Corp., Network Access Solutions Corp., Network Plus Corp., The New Anaconda Co., New York Regional Rail Corp., NewCom International, Inc. (n/k/a Sino Express Travel Ltd.), NewKidCo International, Inc., NexGen Vision, Inc., and Noel Group, Inc.; Order of Suspension of Trading

May 21, 2009.

It appears to the Securities and Exchange Commission that there is a lack of current and accurate information concerning the securities of Nanosignal Corp., Inc. (n/k/a Nano Global, Inc.) because it has not filed any periodic reports since the period ended September 30, 2004.

It appears to the Securities and Exchange Commission that there is a lack of current and accurate information concerning the securities of National Micronetics, Inc. because it has not filed any periodic reports since the period ended March 31, 2000.

It appears to the Securities and Exchange Commission that there is a lack of current and accurate information concerning the securities of NetVoice Technologies Corp. because it has not filed any periodic reports since the period ended June 30, 2001.

It appears to the Securities and Exchange Commission that there is a lack of current and accurate information concerning the securities of Network Access Solutions Corp. because it has not filed any periodic reports since the period ended March 31, 2002.

It appears to the Securities and Exchange Commission that there is a lack of current and accurate information concerning the securities of Network Plus Corp. because it has not filed any periodic reports since the period ended September 30, 2001.

It appears to the Securities and Exchange Commission that there is a lack of current and accurate information concerning the securities of The New Anaconda Co. because it has not filed any periodic reports since the period ended December 31, 2000.

It appears to the Securities and Exchange Commission that there is a lack of current and accurate information concerning the securities of New York Regional Rail Corp. because it has not filed any periodic reports since the period ended September 30, 2005.

It appears to the Securities and Exchange Commission that there is a lack of current and accurate information concerning the securities of NewCom International, Inc. (n/k/a Sino Express Travel Ltd.) because it has not filed any periodic reports since the period ended September 30, 2003.

It appears to the Securities and Exchange Commission that there is a lack of current and accurate information concerning the securities of NewKidCo International, Inc. because it has not filed any periodic reports since the period ended December 31, 2001.

It appears to the Securities and Exchange Commission that there is a lack of current and accurate information concerning the securities of NexGen Vision, Inc. because it has not filed any periodic reports since the period ended June 30, 2003.

It appears to the Securities and Exchange Commission that there is a lack of current and accurate information concerning the securities of Noel Group, Inc. because it has not filed any periodic reports since the period ended June 30, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 21, 2009, through 11:59 p.m. EDT on June 4, 2009.

By the Commission.
Jill M. Peterson,
Assistant Secretary.

[FR Doc. E9-12253 Filed 5-21-09; 4:15 pm]

BILLING CODE 8010-01-P